DEPARTMENT OF THE INTERIOR

National Park Service

[NPS-WASO-NAGPRA-NPS0039959; PPWOCRADN0-PCU00RP14.R50000]

Notice of Intended Repatriation: U.S. Department of the Interior, Fish and Wildlife Service, Ridgefield National Wildlife Refuge Complex, Ridgefield, WA

AGENCY: National Park Service, Interior.

ACTION: Notice.

SUMMARY: In accordance with the Native American Graves Protection and Repatriation Act (NAGPRA), the U.S. Department of the Interior, Fish and Wildlife Service, Ridgefield National Wildlife Refuge Complex intends to repatriate certain cultural items that meet the definition of unassociated funerary objects and that have a cultural affiliation with the Indian Tribes or Native Hawaiian organizations in this notice.

DATES: Repatriation of the cultural items in this notice may occur on or after May 19, 2025.

ADDRESSES: Eric Anderson, U.S. Fish and Service, Ridgefield National Wildlife Refuge Complex, P.O. Box 457, Ridgefield, WA 98642, telephone (360) 887-4106, Ext. 11126, email eric_anderson@fws.gov.

SUPPLEMENTARY INFORMATION: This notice is published as part of the National Park Service's administrative responsibilities under NAGPRA. The determinations in this notice are the sole responsibility of the Ridgefield National Wildlife Refuge Complex, and additional information on the determinations in this notice, including the results of consultation, can be found in the summary or related records. The National Park Service is not responsible for the determinations in this notice.

Abstract of Information Available

A total of 98 cultural items have been requested for repatriation. The 98 unassociated funerary objects consist of a stone anchor, bracelets, metal buttons, a carved stone effigy, glass trade beads, hammerstones, mauls, stone net sinkers, projectile points, metal rings, and a metal knob. The items listed were collected over the years by Jim Carty on his family farm in Clark County Washington. The family sold the farm to the U.S. Fish and Wildlife Service in 1965, and it became part of the Ridgefield National Wildlife Refuge. In 1976, Jim Carty donated the collection to the Refuge. Mr. Carty listed objects as coming from a “burial site.” In 1993, most of the collection was loaned to Portland State University where it is still housed. The remaining portion of the collection is held by the U.S. Fish and Wildlife Service.

The Confederated Tribes of the Grand Ronde Community of Oregon and Cowlitz Indian Tribe have joined with the Chinook Nation to establish the Lower Columbia River NAGPRA Consortium to work together on this NAGPRA repatriation.

Determinations

The Ridgefield National Wildlife Refuge Complex has determined that:

• The 98 unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• There is a reasonable connection between the cultural items described in this notice and the Confederated Tribes of the Grand Ronde Community of Oregon and the Cowlitz Indian Tribe.

Claims for Repatriation

Additional, written requests for repatriation of the cultural items in this notice must be sent to the appropriate official identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after May 19, 2025. If competing requests for repatriation are received, the Ridgefield National Wildlife Refuge Complex must determine the most appropriate claimant prior to repatriation. Requests for joint repatriation of the cultural items are considered a single request and not competing requests. The Ridgefield National Wildlife Refuge Complex is responsible for sending a copy of this notice to the lineal descendants, Indian Tribes, and Native Hawaiian organizations identified in this notice and to any other consulting parties.

Authority: Native American Graves Protection and Repatriation Act, 25 U.S.C. 3004, and the implementing regulations, 43 CFR 10.9.

Dated: April 8, 2025.
Melanie O'Brien,
Manager, National NAGPRA Program.

[FR Doc. 2025-06648 Filed 4-17-25; 8:45 am]

BILLING CODE 4312-52-P